DEPARTMENT OF ENERGY

Federal Energy Regulatory Commission

[Docket No. RP00-226-001]

Mississippi Canyon Gas Pipeline, LLC; Notice of Informal Settlement Conference

August 22, 2000.

On April 26, 2000, the Commission issued an Order Accepting and Suspending Tariff Sheets Subject to Conditions, in Mississippi Canyon Gas Pipeline, LLC, 91 FERC ¶ 61, 087 (2000). On May 4, 2000, Mississippi Canyon Gas Pipeline, LLC (MCGP) filed a response to that order, and on May 24, 2000, BP Exploration and Oil Inc. (BP) and Conoco Inc. (Conoco) filed reply comments. Based on the comments in those filings, the matter was referred to the Commission's Dispute Resolution Service to arrange a possible informal settlement process.

MCGP, BP and Conoco agreed to meet in an informal settlement conference. The conference will be on August 31, 2000 at BP's offices, 501 West Lake Park Boulevard, Houston TX, beginning at 8 a.m.

The interested parties in the above docket are invited to attend the informal settlement conference. If a party has any questions with respect to the conference, please call Kasha Helget, Dispute Resolution Specialist, Federal Energy Regulatory Commission at 202-208-2165, who can also be reached by e-mail at: kasha.helget@ferc.fed.us.

Linwood A. Watson, Jr.,
Acting Secretary.

[FR Doc. 00-21876 Filed 8-25-00; 8:45 am]

BILLING CODE 6717-01-M